NATIONAL LABOR RELATIONS BOARD

29 CFR Part 102

Revisions of Regulations Governing Filing of Documents With the National Labor Relations Board; Provision for Filing Utilizing Forms on the Agency's Web Site

AGENCY: National Labor Relations Board.

ACTION: Final rule.

SUMMARY: The National Labor Relations Board is amending its regulations governing filing documents with the Board to permit certain documents to be filed utilizing forms that are now, or are expected to be made available in the future, on the Board's Web site (http://www.nlrb.gov).

DATES: Effective: November 26, 2002.

FOR FURTHER INFORMATION CONTACT: Lester A. Heltzer, Acting Executive Secretary, (202) 273-1067.

SUPPLEMENTARY INFORMATION: Pursuant to OMB Memorandum M-00-10, “OMB Procedures and Guidance on Implementing the Government Paperwork Elimination Act,” the National Labor Relations Board has been developing forms to be placed on the Board's Web site (http://www.nlrb.gov) to permit electronic filings with the Board. In fiscal year 2000, the Board placed on its Web site a form which individuals can use to file electronic requests under the Freedom of Information Act with the Board's Headquarters offices. In the near future, and over the course of the next several years, the Board will be expanding this program to permit electronic filings of other documents, including requests for extensions of time to be filed with the General Counsel's Office of Appeals or with the Executive Secretary's Office.

The Board's present filing and service rules do not address such electronic filings. Indeed, the current rules could, in some respects, be read to prohibit some of the very filings that we are planning to permit. Consequently, we have decided to promulgate an omnibus provision giving blanket authority to members of the public to utilize new electronic forms as soon as they are placed on the Web site. As new forms are developed and implemented, they will be accompanied on the Web site by instructions describing how they are to be used. Documents filed in accordance with these instructions will be accepted even if there is some provision elsewhere in the Board's rules that prohibits, or seems to prohibit, such filings.

In the case of documents that are required to be served on other parties to a Board proceeding, some provision for expedited service must be made, consistent with Section 102.114(a). That paragraph provides that “service on all parties shall be made in the same manner as that utilized in filing the paper with the Board, or in a more expeditions manner.” In the case of filings made using forms on the Board's Web site, service by the “same” manner is not possible. Instead, we are substituting a requirement, drawn from our experience with our rules for filing by facsimile (Section 102.114(h)), that other parties be notified by phone and then either served personally, by overnight delivery service, or by facsimile transmission.

Regulatory Flexibility Act

Because no notice of proposed rule-making is required for procedural rules, the requirements of the Regulatory Flexibility Act (5 U.S.C. 601 et seq.) pertaining to regulatory flexibility analysis do not apply to these rules. However, even if the Regulatory Flexibility Act were to apply, the NLRB certifies that these rules will not have a significant economic impact on a substantial number of small business entities as they merely permit persons, in certain circumstances, to file documents with the Board electronically.

Executive Order 12866

The regulatory review provisions of Executive Order 12866 do not apply to independent regulatory agencies. However, even if they did, the proposed changes in the Board's rules would not be classified as “significant rules” under Section 6 of Executive Order 12866, because they will not result in (1) an annual effect on the economy of $100 million or more; (2) a major increase in costs or prices for consumers, individual industries, Federal, State, or local government agencies, or geographic regions; or (3) significant adverse effects on competition, employment, investment, productivity, innovation, or on the ability of United States-based enterprises to compete with foreign-based enterprises in domestic or foreign markets. Accordingly, no regulatory impact assessment is required.

Unfunded Mandates Reform Act of 1995

This rule will not result in the expenditure by State, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States based companies to compete with foreign-based companies in domestic and export markets.

Paperwork Reduction Act

This part does not impose any reporting or recordkeeping requirements under the Paperwork Reduction Act of 1995.

List of Subjects in 29 CFR Part 102

Administrative practice and procedure, Labor management relations.

For the reasons set forth in the preamble, the National Labor Relations Board is amending 29 CFR Chapter I, Part 102, as follows:

PART 102—RULES AND REGULATIONS, SERIES 8

1. The authority citation for part 102 continues to read as follows:

Authority: Sec. 6, National Labor Relations Act, as amended (29 U.S.C. 151, 156). Section 102.117 also issued under sec. 552(a)(4)(A) of the Freedom of Information Act, as amended (5 U.S.C. 552(a)(4)(A)), and section 442a(j) and (k) of the Privacy Act (5 U.S.C. 55a(j) and (k)). Sections 102.143 through 102.155 also issued under sec. 504(c)(1) of the Equal Access to Justice Act as amended (5 U.S.C. 504(c)(1)).

2. § 102.114 is amended by revising the heading and by adding a new paragraph (i), following the existing paragraph (h), to read as follows:

§ 102.114 Filing and service of papers by parties; form of papers; manner and proof of filing or service; electronic filings.

* * * * *

(i) The Agency's Web site (http://www.nlrb.gov) contains certain forms that parties or other persons are permitted to file with the Agency electronically. Parties or other persons choosing to utilize those forms to file documents electronically are permitted do so by following the instructions described on the Web site, notwithstanding any contrary provisions elsewhere in these rules. In the event the document being filed electronically is required to be served on another party to a proceeding, the other party shall be notified by telephone of the substance of the transmitted document and a copy of the document shall be served by personal service no later than the next day, by overnight delivery service, or, with the permission of the party receiving the document, by facsimile transmission.

Dated, Washington, DC, November 14, 2002.
By direction of the Board.
Lester A. Heltzer,
Acting Executive Secretary, National Labor Relations Board.

[FR Doc. 02-29740 Filed 11-25-02; 8:45 am]

BILLING CODE 7545-01-P